DEPARTMENT OF THE INTERIOR

Fish and Wildlife Service

Notice of Availability of a Technical Agency Draft Recovery Plan for the Endangered Vermilion Darter for Review and Comment

AGENCY: Fish and Wildlife Service, Interior.

ACTION: Notice of documents availability and opening of public comment period.

SUMMARY: We, the Fish and Wildlife Service, announce the availability of the technical agency draft recovery plan for the vermilion darter (Etheostoma chermocki). The vermilion darter is found only in Turkey Creek, a tributary of the Locust Fork of the Black Warrior River, Jefferson County, Alabama. The species is threatened by degradation of water quality and substrate components of its habitat due to sedimentation and other pollutants. The technical agency draft recovery plan includes specific recovery objectives and criteria to be met in order to delist the vermilion darter under the Endangered Species Act of 1973, as amended (Act) (16 U.S.C. 1533 et seq.). We solicit review and comment on this technical agency draft recovery plan from local, State, and Federal agencies, and the public.

DATES: In order to be considered, we must receive comments on the technical agency draft recovery plan on or before September 19, 2005.

ADDRESSES: If you wish to review this technical agency draft recovery plan, you may obtain a copy by contacting the Jackson, Mississippi Field Office, U.S. Fish and Wildlife Service, 6578 Dogwood View Parkway, Jackson, Mississippi 39213 (telephone (601) 965-4900), or by visiting our recovery plan Web site at http://endangered.fws.gov/recovery/index.html#plans. If you wish to comment, you may submit your comments by any one of several methods:

1. You may submit written comments and materials to the Field Supervisor, at the above address.

2. You may hand-deliver written comments to our Jackson, Mississippi Field Office, at the above address, or fax your comments to (601) 965-4340.

3. You may send comments by e-mail to daniel_drennen@fws.gov. For directions on how to submit electronic filing of comments, see the “Public Comments Solicited” seciton.

Comments and materials received are available for public inspection on request, by appointment, during normal business hours at the above address.

FOR FURTHER INFORMATION CONTACT: Daniel J. Drennen at the above address (telephone (601) 321-1127).

SUPPLEMENTARY INFORMATION:

Background

We listed the vermilion darter (Etheostoma chermocki (Teleostei: Percidae)) as endangered under the Act on November 28, 2001 (66 FR 59367). The vermilion darter was officially described in 1992 from Turkey Creek, which is a tributary of the Locust Fork of the Black Warrior River, Jefferson County, Alabama.

The vermilion darter is a medium-sized darter that is only known from a 11.6-kilometer (7.2-mile) section of the Turkey Creek drainage. The greatest threat to this species is degradation of water quality and substrate components of its habitat due to sedimentation and other pollutants (both point and non-point sources). Urbanization has contributed significantly to sedimentation within the Turkey Creek watershed.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

The objective of this technical agency draft recovery plan is to provide a framework for the recovery of the vermilion darter so that protection under the Act is no longer necessary. The status of the species will be reviewed, and the species will be considered for removal from the Federal List of Endangered and Threatened Wildlife and Plants (50 CFR part 17) when recovery criteria are met.

Public Comments Solicited

We solicit written comments on the recovery plan described. We will consider all comments received by the date specified above prior to final approval of the draft recovery plan.

Please submit electronic comments as an ASCII file format and avoid the use of special characters and encryption. Please also include your name and return address in your e-mail message. If you do not receive a confirmation from the system that we have received your e-mail message, contact us directly by calling our Mississippi Field Office (see ADDRESSES section).

Our practice is to make all comments, including names and home addresses of respondents, available for public review during regular business hours. Individual respondents may request that we withhold their home addresses from the record, which we will honor to the extent allowable by law. In some circumstances, we would withhold also from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority: The authority for this action is section 4(f) of the Endangered Species Act, 16 U.S.C. 1533(f).

Dated: July 15, 2005.
Jacquelyn Parrish,
Acting Regional Director.

[FR Doc. 05-14372 Filed 7-20-05; 8:45 am]

BILLING CODE 4310-55-P